DEPARTMENT OF ENERGY

Federal Energy Regulatory Commission

[Docket No. PF05-16-000]

Iroquois Pipeline Operating Company; Notice of Intent To Prepare an Environmental Assessment for the Proposed Brookhaven Lateral Project, Request for Comments on Environmental Issues and Notice of Scoping Meeting

July 21, 2006.

The staff of the Federal Energy Regulatory Commission (FERC or Commission) will prepare an environmental assessment (EA) that will discuss the environmental impacts of Iroquois Pipeline Operating Company's (Iroquois) planned Brookhaven Lateral, located on Long Island, in Suffolk County, New York. This notice announces the opening of the scoping process we ¹ will use to gather input from the public and interested agencies on the project. Your input will help the Commission staff determine which issues need to be evaluated in the EA. Please note that the scoping period will close on August 25, 2006.

¹ The terms “we,” “us,” or “our” refer to the environmental staff of the Office of Energy Projects at the FERC.

Comments may be submitted in written form or presented verbally at the public meeting listed below. Further details on how to submit written comments are provided in the public participation section of this notice. In lieu of sending written comments, you are invited to attend the public scoping meeting, scheduled as follows:

Thursday, August 10, 2006, 6:30 p.m. (EST): Islandia Marriott Long Island, 3635 Express Drive North, Islandia, New York 11749, 631-232-3000.

This notice is being sent to affected landowners; federal, state, and local government representatives and agencies; environmental and public interest groups; Indian tribes and Native American groups; other interested parties in this proceeding; and local libraries and newspapers. We encourage government representatives to notify their constituents of this planned project and encourage them to comment on their areas of concern.

Summary of the Proposed Project

Iroquois proposes to expand its natural gas transmission system to provide about 50 dekatherms per day of natural gas to the planned Caithness Energy Center (Caithness Project) by April 2008. The Long Island Power Authority (LIPA) selected the Caithness Project, to be located in the Town of Brookhaven, to meet the growing electric power needs of its customers. The Caithness Project would consist of a new, approximate 350 megawatt combined cycle natural gas and oil-fired electric generation facility. The Caithness Project is not under the jurisdiction of the FERC, and is in the process of obtaining necessary federal, state, and local permits prior to construction and operation. LIPA asked Iroquois to provide natural gas to the Caithness Project. Therefore, Iroquois requested that the Commission review its proposal to construct and operate the following facilities:

• Approximately 21.1 miles of 24-inch-diameter underground steel natural gas pipeline, extending from the current terminus of Iroquois' existing system at the South Commack Meter Station in Smithtown to the site of the proposed Caithness Project near the hamlet of Yaphank, New York; and

• Six mainline block valves, a pig launcher at the South Commack Meter Station, and a pig receiver and new custody transfer meter station at the eastern end of the pipeline, at the Caithness Project site.

A map depicting the general location of Iroquois' proposed facilities and alternate pipeline routes is attached as Appendix 1.²

² The appendices referenced in this notice are not being printed in the Federal Register. Copies of the appendices are available at the Commission's Public Reference Room, 888 First Street NE., Washington DC 20426, or call (202) 502-8371. Copies of the appendices were sent to all those receiving this notice in the mail.

Currently Identified Environmental Issues

At this time no formal application has been filed by Iroquois with the FERC. For this project, the FERC staff has initiated its review to comply with the National Environmental Policy Act (NEPA) prior to receiving the application. The purpose of our NEPA Pre-Filing Environmental Review Process is to involve interested stakeholders early in project planning and to identify and resolve issues before an application is filed with the FERC.

We have already identified several issues that we think deserve attention based on a preliminary review of the proposed facilities, environmental information provided by Iroquois, and comments received from the public or governmental agencies. This preliminary list of issues may be changed based on your comments and our analysis.

• Accomodation or permission needed from the New York Department of Parks and New York Department of Transportation to allow the pipeline to cross the control access line easement acquired with funds from the Federal Highway Administration along the Sunken Meadow Parkway (milepost [MP] 0.4), the Northern State Parkway (MP 1.5), and the Long Island Expressway (LIE, I-495, MP 13);

• Potential use of temporary extra work spaces outside of the existing easement for the LIPA power line, between about MP 3 and MP 12.5, and potential affects from construction of the proposed pipeline on residences and schools adjacent to the LIPA easement;

• Potential affects on residences and commercial businesses along Long Island Avenue between about MP 13.5 and MP 18.5;

• Feasibility of using horizontal directional drills to cross under the Northern State Parkway (MP 1.5), Simeon Woods and Wheeler Road (MP 4.8), Veterans Memorial Highway (MP 6.5), Hyatt Golf Club Access Road (MP 7.7), Patchogue Road (MP 11.7); and the LIE (MP 13); and

• Potential impacts on federal or state-listed rare, threatened, endangered, or protected species, and cultural resources.

The EA Process

The FERC will use the EA to consider the environmental impacts that could result if it issues Iroquois a Certificate of Public Convenience and Necessity. This notice formally announces our preparation of the EA and the beginning of the process referred to as “scoping.” We are soliciting input from the public and interested agencies to help us focus the analysis in the EA on the potentially significant environmental issues related to the proposed action.

Our independent analysis of the issues will be included in an EA that will be prepared for the project. Our evaluation will also include possible alternatives to the proposed project or portions of the project, and we will make recommendations on how to lessen or avoid impacts on the various resource areas of concern.

The EA will be mailed to federal, state, and local government agencies; elected officials; environmental and public interest groups; Indian tribes and Native American groups; affected landowners; other interested parties; local libraries and newspapers; and the FERC's official service list for this proceeding. A 30-day comment period will be allotted for review of the EA. We will consider all comments submitted on the EA in our recommendations to the Commission for an Order that is issued for the project.

We are currently involved in discussions with other governmental agencies to identify their issues and concerns. These agencies include the U.S. Army Corps of Engineers; U.S. Environmental Protection Agency (EPA); U.S. Fish and Wildlife Service (FWS); U.S. Department of Transportation; New York State Department of Environmental Conservation; New York State Department of Parks, Recreation and Historic Preservation; New York State Department of Transportation; Suffolk County; and the Town of Huntington. The EPA and FWS have agreed to be cooperating agencies in the production of the EA. By this notice, we are asking any other federal, state, and local agencies with jurisdiction and/or special expertise with respect to environmental issues to formally cooperate with us in the preparation of the EA. Agencies that would like to request cooperating status should follow the instructions for filing comments provided below.

Public Participation

You can make a difference by providing us with your specific comments or concerns about the proposals. Your comments should focus on the potential environmental effects, reasonable alternatives and measures to avoid or lessen environmental impact. The more specific your comments, the more useful they will be. To ensure that your comments are timely and properly recorded, please mail your comments so that they will be received in Washington, DC on or before August 25, 2006 and carefully follow these instructions:

• Send an original and two copies of your letter to: Magalie R. Salas, Secretary, Federal Energy Regulatory Commission, 888 First St., NE., Room 1A, Washington, DC 20426;

• Label one copy of the comments for the attention of OEP/DG2E/Gas Branch 3, PJ-11.3; and

• Reference Docket No. PF05-16-000 on the original and both copies.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

When Iroquois submits its application for authorization to construct and operate the Brookhaven Lateral Project, the Commission will publish a Notice of Application in the Federal Register and will establish a deadline for interested persons to intervene in the proceeding. Because our Pre-filing Environmental Review Process occurs before an application to begin a proceeding is officially filed, you may not request intervenor status at this time. Petitions to intervene during the Pre-filing process are premature and will not be accepted by the Commission.

Environmental Mailing List

If you wish to remain on the environmental mailing list, and receive a copy of the EA, please return the Mailing List Retention Form included in Appendix 2. If you do not return this form, you will be taken off our mailing list.

Availability of Additional Information

Additional information about the project is available from the Commission's Office of External Affairs at 1-866-208 FERC (3372) or on the FERC Internet Web site (http://www.ferc.gov). Using the “eLibrary” link, select “General Search” from the eLibrary menu, enter the selected date range and “Docket Number” (i.e., PF05-16—you do not need the last three numbers [000] in the docket), and follow the instructions. Searches may also be done using the phrase “Brookhaven Lateral” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information. Finally, Iroquois has established a project-specific Internet Web site at http://www.iroquois.com/new-Internet/igts/Brookhaven/brookhaven.asp. Iroquois' Brookhaven Lateral Web site includes a project description, public participation, answers to frequently asked questions, and links. For additional data, call Ruth Parkins, Iroquois Public Relations Representative, at 203-925-7209, or e-mail: brookhaven_project@iroquois.com.

Magalie R. Salas,
Secretary.

[FR Doc. E6-12237 Filed 7-28-06; 8:45 am]

BILLING CODE 6717-01-P